ENVIRONMENTAL PROTECTION AGENCY

[FRL-7050-3]

Proposed CERCLA Prospective Purchaser Agreement; Sanitary Landfill Company (IWD) Superfund Site; Moraine, OH

AGENCY: Environmental Protection Agency.

ACTION: Notice; request for public comment.

SUMMARY: In accordance with the Comprehensive Environmental Response, Compensation, and Liability Act, as amended (“CERCLA”), 42 U.S.C. 9601 et seq., and the authority of the Attorney General of the United States to compromise and settle claims of the United States as delegated, notice is hereby given of a proposed prospective purchaser agreement concerning the Sanitary Landfill Company (IWD) Superfund Site at 1855 Cardington Road in Moraine, Ohio with Debpat, LLC (“Debpat”). The agreement requires the Debpat to pay $5,000.00 to the Hazardous Substance Superfund. Debpat intends to renovate and use an existing warehouse on the property. The agreement includes a covenant not to sue the City of Canton under sections 106 and 107(a) of CERCLA, 42 U.S.C. 9606 and 9607(a) and it imposes certain institutional controls on Debpat. For thirty (30) days following the date of publication of this notice, the United States will receive written comments relating to the agreement. The United States will consider all comments received and may modify or withdraw its consent to the agreement if comments received disclose facts or considerations which indicate that the agreement is inappropriate, improper, or inadequate. The United States' response to any comments received will be available for public inspection at U.S. EPA, Region 5, 77 W. Jackson Boulevard, Chicago, IL 60604. Please contact Karen L. Peaceman at (312) 353-5751 to make arrangements to inspect the comments.

DATES: Comments must be submitted on or before October 9, 2001.

ADDRESSES: The proposed settlement is available for public inspection at U.S. EPA, Region 5, 77 W. Jackson Boulevard, Chicago, IL 60604. A copy of the proposed agreement may be obtained from Karen L. Peaceman, at U.S. EPA, Region 5, 77 W. Jackson Boulevard (C-14J), Chicago, IL 60604, phone (312) 353-5751. Comments should reference the Sanitary Landfill Company (IWD) Superfund Site prospective purchaser agreement, and should be addressed to Karen L. Peaceman.

FOR FURTHER INFORMATION CONTACT: Karen L. Peaceman, at U.S. EPA, Region 5, 77 W. Jackson Boulevard (C-14J), Chicago, IL 60604, phone (312) 353-5751.

Dated: July 20, 2001.
William E. Muno,
Director, Superfund Division, U.S. EPA Region 5.

[FR Doc. 01-22377 Filed 9-5-01; 8:45 am]

BILLING CODE 6560-50-P